DEPARTMENT OF ENERGY

Federal Energy Regulatory Commission

[Project Nos. 2720-032 and 2471-005]

Wisconsin Electric Power Company; Notice Granting Late Intervention

March 7, 2000.

On December 2, 1999, the Commission issued a notice of the application for amendment of license filed by Wisconsin Electric Power Company (Wisconsin Electric), for its existing Sturgeon Falls Project No. 2720, located on the Menominee River, in Dickenson County, Michigan and Marinette County, Wisconsin. The notice established January 31, 2000, as the deadline for the filing of motions to intervene.

On December 3, 1999, the Commission issued a notice of the application for surrender of license filed by Wisconsin electric for its existing Sturgeon Hydroelectric Project No. 2471, located on the sturgeon river, in Dickenson County, Michigan. The notice established February 1, 2000, as the deadline for filing motions to intervene.

On February 4, 2000, River Alliance of Wisconsin filed a late motion to intervene in both proceedings.¹ Granting the motion to intervene will not unduly delay or disrupt the proceedings or any other parties to them. Therefore, pursuant to Rule 214,² the motion to intervene filed in these proceedings by the River Alliance of Wisconsin is granted, subject to the Commission's rules and regulations.

¹ By the same pleading, River Alliance of Wisconsin filed timely motions to intervene in several related proceedings. Because those motions were unopposed, they were granted automatically.

² 18 CFR 385.214.

David P. Boergers,
Secretary.

[FR Doc. 00-5975 Filed 3-10-00; 8:45 am]

BILLING CODE 6717-01-M